DEPARTMENT OF COMMERCE

National Oceanic and Atmospheric Administration

RIN 0648-XE235

Endangered Species; Take of Abalone

AGENCY: National Marine Fisheries Service (NMFS), National Oceanic and Atmospheric Administration (NOAA), Commerce.

ACTION: Notice of receipt for request for one scientific research permit and one scientific research and enhancement permit.

SUMMARY: Notice is hereby given that NMFS has received permit application requests for one new scientific research permit and one new scientific research and enhancement permit. The proposed research is intended to increase knowledge of species listed under the Endangered Species Act (ESA) and to help guide management, conservation, and recovery efforts. The applications may be viewed online at: https://apps.nmfs.noaa.gov/preview/preview_open_for_comment.cfm.

DATES: Comments or requests for a public hearing on the applications must be received at the appropriate address or fax number (see ADDRESSES) no later than 5 p.m. Pacific standard time on November 13, 2015.

ADDRESSES: Written comments on the applications should be submitted to the Protected Resources Division, NMFS, 777 Sonoma Avenue, Room 325, Santa Rosa, CA 95404. Comments may also be submitted via fax to 707-578-3435 or by email to nmfs.swr.apps@noaa.gov (include the permit number in the subject line of the fax or email).

FOR FURTHER INFORMATION CONTACT: Jeff Abrams, Santa Rosa, CA (ph.: 707-575-6080), Fax: 707-578-3435, email: Jeff.Abrams@noaa.gov). Permit application instructions are available from the address above, or online at https://apps.nmfs.noaa.gov.

SUPPLEMENTARY INFORMATION:

Species Covered in This Notice

The following listed species are covered in this notice:

Endangered black abalone (Haliotis cracherodii).

Authority

Scientific research and enhancement permits are issued in accordance with section 10(a)(1)(A) of the ESA (16 U.S.C. 1531 et seq.) and regulations governing listed fish and wildlife permits (50 CFR parts 222-227). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 18761

Dr. Peter Raimondi, professor and chair of the University of California, Santa Cruz, Department of Ecology and Evolutionary Biology, has requested a five year research permit to monitor and research the status and trends of endangered black abalone at sites throughout California for a period of five years. Monitoring would consist primarily of non-lethal, non-capture take to measure, mark, and count abalone. At a few experimental sites, habitat restoration efforts would be completed to restore crevice communities to their pre-abalone decline state, and recruitment modules would be used to better estimate recruitment levels. Comparisons would be made between abalone counts in “restored” crevices versus control crevices with and without recruitment modules to assess whether habitat restoration and recruitment module presence enhance recovery efforts. Some juvenile black abalone would be transported in recruitment modules from locations that are relatively free of withering syndrome in the north (Monterey County), to a withering syndrome-impacted mainland site further south (Santa Barbara County). Because the field biologists in this project would be likely to encounter dead or moribund black abalone, researchers would be permitted to collect dead or obviously dying individuals to be used for pathology and histology samples. These samples would be important in early identification of disease or toxin outbreaks. The information resulting from the research outlined above would be used to follow recovery in wild abalone, track disease spread and population decline, and better understand habitat preferences that may aid in facilitating recovery.

Permit 19571

The NMFS Southwest Fisheries Science Center (SWFSC), La Jolla, California has requested a five year research and enhancement permit for the captive maintenance, breeding, lab experiments, epipodial tissue sampling, observation, and transport of endangered black abalone. The main purpose of this research would be to develop successful techniques for consistent production of high quality juvenile black abalone to support future outplanting efforts. Research would examine: 1) Spawning conditioning related to various diet and temperature regimes, 2) cues for spawning including thermal shock and hydrogen peroxide treatments, 3) veliger settlement, 4) and growth and survival. Eight of the black abalone proposed to be used for this research were previously transferred from the Space and Naval Warfare Systems Center Pacific Abalone Farm to the SWFSC Aquarium Culture Facility in La Jolla, California. These pre-listed abalone have been in captivity since before black abalone were listed as Endangered under the ESA. Additional pre-listed black abalone for this research may be transferred from the University of California, Santa Barbara, or other facilities that currently maintain pre-listed black abalone. In addition, wild origin black abalone may be obtained for this research through confiscations due to law enforcement cases, or from projects covered under ESA Section 7 consultations.

The research proposed would support the development of management strategies necessary for the successful recovery of this species and possibly assist natural resource managers in the future selection of the location and size of marine protected areas designed to protect black abalone. Prior efforts to spawn and produce black abalone spat have been unsuccessful, so this proposed work would seek to better condition black abalone for successful spawning and to improve fertilization success, settlement, and recruitment.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: October 7, 2015.
Angela Somma,
Chief, Endangered Species Division, Office of Protected Resources, National Marine Fisheries Service.

[FR Doc. 2015-25985 Filed 10-13-15; 8:45 am]

BILLING CODE 3510-22-P